DEPARTMENT OF LABOR

Office of the Secretary of Labor

Request for Information on Business Practices To Reduce the Likelihood of Forced Labor or Child Labor in the Production of Goods

AGENCY: Bureau of International Labor Affairs, Labor.

ACTION: Request for information.

SUMMARY: The Department of Labor (DOL) is seeking information on current practices of firms, business associations, and other private sector groups to reduce the likelihood of child labor and forced labor in the production of goods. This information will aid DOL in fulfilling its mandate under the Trafficking Victims Protection Reauthorization Act of 2005 to work with persons who are involved in the production of goods made with forced labor or child labor to create a standard set of practices that will reduce the likelihood that such persons will produce goods using such labor.

DATES: Information should be submitted to the Office of Child Labor, Forced Labor and Human Trafficking (OCFT) within the Bureau of International Labor Affairs (ILAB) via one of the methods described below by 5 p.m., on June 14, 2010.

To Submit Information, or for Further Information, Contact: ILAB/OCFT, U.S. Department of Labor, at (202) 693-4843 (this is not a toll free number). Comments, identified as “Docket No. DOL-2010-0002,” may be submitted by any of the following methods:

• Federal eRulemaking Portal: http://www.regulations.gov. The portal includes instructions for submitting comments. Parties submitting responses electronically are encouraged not to submit paper copies.

• Facsimile (fax): OCFT at 202-693-4830.

• Mail, Express Delivery, Hand Delivery, and Messenger Service (2 copies): Charita Castro or Rachel Rigby at U.S. Department of Labor, ILAB/OCFT, 200 Constitution Avenue, NW., Room S-5317, Washington, DC 20210. Note that security-related screening may result in significant delays in receiving materials by regular mail.

• E-mail: ilab-tvpra@dol.gov.

All submissions should clearly identify the person and/or organization filing the submission and should be signed and dated.

In addition to these formal submission methods, the public will be able to view this notice via DOL's Facebook page at http://www.facebook.com/departmentoflabor and Twitter account at http://twitter.com/usdol.

SUPPLEMENTARY INFORMATION:

I. Background

Section 105(b)(1) of the Trafficking Victims Protection Reauthorization Act of 2005 (“TVPRA of 2005”), Public Law 109-164 (2006), directed the Secretary of Labor, acting through the Bureau of International Labor Affairs, to “carry out additional activities to monitor and combat forced labor and child labor in foreign countries.” Section 105(b)(2) of the TVPRA of 2005, 22 U.S.C. 7112(b)(2), listed these activities as:

(A) Monitor the use of forced labor and child labor in violation of international standards;

(B) Provide information regarding trafficking in persons for the purpose of forced labor to the Office to Monitor and Combat Trafficking of the Department of State for inclusion in [the] trafficking in persons report required by section 110(b) of the Trafficking Victims Protection Act of 2000 (22 U.S.C. 7107(b));

(C) Develop and make available to the public a list of goods from countries that the Bureau of International Labor Affairs has reason to believe are produced by forced labor or child labor in violation of international standards;

(D) Work with persons who are involved in the production of goods on the list described in subparagraph (C) to create a standard set of practices that will reduce the likelihood that such persons will produce goods using the labor described in such subparagraph; and

(E) Consult with other departments and agencies of the United States Government to reduce forced and child labor internationally and ensure that products made by forced labor and child labor in violation of international standards are not imported into the United States.

Pursuant to part (D) of the TVPRA of 2005 mandate, ILAB is seeking information on current practices of firms, business associations, and other private sector groups to reduce the likelihood of child labor and forced labor in the production of goods. Many firms have policies, activities and/or systems in place to monitor labor rights in their supply chains and remediate violations. Such policies, activities and systems vary depending on location, industry, and many other factors. ILAB seeks to identify practices that have been effective in specific contexts, analyze their replicability, and disseminate those that have potential to be effective on a broader scale. For further details see the “Information Requested” section of this notice.

II. Definitions of Forced Labor and Child Labor

“Child Labor”—“Child labor” under international standards means all work performed by a person below the age of 15. It also includes all work performed by a person below the age of 18 in the following practices:

(A) All forms of slavery or practices similar to slavery, such as the sale or trafficking of children, debt bondage and serfdom, or forced or compulsory labor, including forced or compulsory recruitment of children for use in armed conflict;

(B) The use, procuring, or offering of a child for prostitution, for the production of pornography or for pornographic purposes;

(C) The use, procuring, or offering of a child for illicit activities in particular for the production and trafficking of drugs; and

(D) Work which, by its nature or the circumstances in which it is carried out, is likely to harm the health, safety, or morals of children. The work referred to in subparagraph (D) is determined by the laws, regulations, or competent authority of the country involved, after consultation with the organizations of employers and workers concerned, and taking into consideration relevant international standards. This definition will not apply to work specifically authorized by national laws, including work done by children in schools for general, vocational or technical education or in other training institutions, where such work is carried out in accordance with international standards under conditions prescribed by the competent authority, and does not prejudice children's attendance in school or their capacity to benefit from the instruction received.

“Forced Labor”—“Forced labor” under international standards means all work or service which is exacted from any person under the menace of any penalty for its nonperformance and for which the worker does not offer himself voluntarily, and includes indentured labor. “Forced labor” includes work provided or obtained by force, fraud, or coercion, including:

(1) By threats of serious harm to, or physical restraint against any person;

(2) By means of any scheme, plan, or pattern intended to cause the person to believe that, if the person did not perform such labor or services, that person or another person would suffer serious harm or physical restraint; or

(3) By means of the abuse or threatened abuse of law or the legal process. For purposes of this definition, forced labor does not include work specifically authorized by national laws where such work is carried out in accordance with conditions prescribed by the competent authority, including: any work or service required by compulsory military service laws for work of a purely military character; work or service which forms part of the normal civic obligations of the citizens of a fully self-governing country; work or service exacted from any person as a consequence of a conviction in a court of law, provided that the said work or service is carried out under the supervision and control of a public authority and that the said person is not hired to or placed at the disposal of private individuals, companies or associations; work or service required in cases of emergency, such as in the event of war or of a calamity or threatened calamity, fire, flood, famine, earthquake, violent epidemic or epizootic diseases, invasion by animal, insect or vegetable pests, and in general any circumstance that would endanger the existence or the well-being of the whole or part of the population; and minor communal services of a kind which, being performed by the members of the community in the direct interest of the said community, can therefore be considered as normal civic obligations incumbent upon the members of the community, provided that the members of the community or their direct representatives have the right to be consulted in regard to the need for such services.

III. Information Requested

ILAB is seeking general information on the practices of business entities to reduce the likelihood of child labor and forced labor in the production of goods. ILAB welcomes any and all information, which could include, e.g., codes of conduct, standards used to implement such codes of conduct, auditing/monitoring systems, supply-chain management practices designed to monitor informal workplaces, homework, and other challenging work environments, training modules, reporting practices, collaborative practices and strategies, grassroots projects, or other relevant information. ILAB is also seeking information on government practices to collaborate with private sector entities to reduce child labor and forced labor in the production of goods. Submissions may include documents in various formats, such as policy statements, reports, and case studies. However, the specific format of any submission is not important provided that the document presents and/or evaluates practices implemented by business entities, or governments in partnership with business entities, to reduce the likelihood of child labor and forced labor in the production of goods.

Information should be submitted to the addresses and within the time period set forth above. DOL seeks information that can be used to inform the development of tools and resources to be disseminated publicly on the DOL Web site and/or in other publications. Internal documents or confidential documents that cannot be shared with the public will not be used. Submissions containing confidential or personal information may be redacted by DOL before being made available to the public, in accordance with applicable laws and regulations. DOL does not intend to respond directly to a submission or to return a submission to a submitter, but DOL may communicate with the submitter regarding any matters relating to the submission.

DOL will compile and analyze submissions pursuant to this Notice, and of many other practices as described above, in coordination with a contractor, the Center for Reflection, Education, and Action (CREA). For more information about CREA's contract with DOL, or to discuss relevant practices directly with CREA, please contact Project Director Ruth Rosenbaum at ruth_rosenbaum@crea-inc.org.

Signed at Washington, DC this 12th day of April, 2010.
Sandra Polaski,
Deputy Undersecretary, Bureau of International Labor Affairs.

[FR Doc. 2010-8642 Filed 4-14-10; 8:45 am]

BILLING CODE 4510-28-P